DEPARTMENT OF THE INTERIOR

National Park Service

[NPS-WASO-NAGPRA-NPS0026098; PPWOCRADN0-PCU00RP14.R50000]

Notice of Inventory Completion: San Diego Museum of Man, San Diego, CA

AGENCY: National Park Service, Interior.

ACTION: Notice.

SUMMARY: The San Diego Museum of Man has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the San Diego Museum of Man. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the San Diego Museum of Man at the address in this notice by October 10, 2018.

ADDRESSES: Ben Garcia, Deputy Director, San Diego Museum of Man, 1350 El Prado, Balboa Park, San Diego, CA 32101, telephone (619) 239-2001 ext. 17, email bgarcia@muesumofman.org.

SUPPLEMENTARY INFORMATION: Notice is here given in accordance with the Native American Graves Protection and Repatriation Act (NAGPRA), 25 U.S.C. 3003, of the completion of an inventory of human remains under the control of the San Diego Museum of Man, San Diego, CA. The human remains were removed from the Mission San Diego de Alcala and the vicinity of the intersection of 40th Street and Meade Avenue, San Diego, CA.

This notice is published as part of the National Park Service's administrative responsibilities under NAGPRA, 25 U.S.C. 3003(d) (3). The determinations in this notice are the sole responsibility of the museum, institution, or Federal agency that has control of the Native American human remains. The National Park Service is not responsible for the determinations in this notice.

Consultation

A detailed assessment of the human remains was made by the San Diego Museum of Man professional staff in consultation with representatives of the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Indian Reservation, California; San Pasqual Band of Diegueno Mission Indians of California; and Sycuan Band of the Kumeyaay Nation (hereafter referred to as “The Tribes”).

History and Description of the Remains

In 1959, human remains representing, at minimum, one individual were removed from the vicinity of the intersection of 40th Street and Meade Avenue in San Diego, CA, by a San Diego road crew. The human remains were initially received by the San Diego County Coroner's Office. On October 9, 1959 the human remains were transferred to the San Diego Natural History Museum and then gifted to the San Diego Museum of Man sometime between October and December of 1959. No known individuals were identified. No associated funerary objects are present.

The area of 40th Street and Meade Avenue is located within territory traditionally occupied by the Kumeyaay Nation, which is today represented by The Tribes. Based on collection research, geographic location, ethnographic information, and oral history evidence, these human remains have been identified as Kumeyaay.

In 1989, human remains representing, at minimum, four individuals were removed from an unknown site in the vicinity of Mission San Diego de Alcala, San Diego, CA. The human remains were likely excavated by Rose Tyson, a former Curator at the Museum of Man. These human remains lack specific information on the dates of collection/donation, excavation or documentation beyond a handwritten 3x5 card, reading; “San Diego Missions burials exc. By R. Tyson 1989,” and a label reading; “San Diego Mission Leftovers.” No known individuals were identified. No associated funerary objects are present.

Mission San Diego de Alcala, San Diego, CA, is located within territory traditionally occupied by the Kumeyaay Nation, which is today represented by The Tribes. Based on geographic location, ethnographic information, and oral history evidence, these human remains have been identified as Kumeyaay.

Determinations Made by the San Diego Museum of Man

Officials of the San Diego Museum of Man have determined that:

• Pursuant to 25 U.S.C. 3001(9), the human remains described in this notice represent the physical remains of five individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Ben Garcia, Deputy Director, San Diego Museum of Man, 1350 El Prado, Balboa Park, San Diego, CA 32101, telephone (619) 239-2001 ext. 17, email bgarcia@muesumofman.org, by October 10, 2018. After that date, if no additional requestors have come forward, transfer of control of the human remains to The Tribes may proceed.

The San Diego Museum of Man is responsible for notifying The Tribes that this notice has been published.

Dated: July 25, 2018.
Melanie O'Brien,
Manager, National NAGPRA Program.

[FR Doc. 2018-19522 Filed 9-7-18; 8:45 am]

BILLING CODE 4312-52-P